DEPARTMENT OF TRANSPORTATION

Federal Motor Carrier Safety Administration

[Docket ID: FMCSA-2008-0021]

Qualification of Drivers; Exemption Applications; Vision

AGENCY: Federal Motor Carrier Safety Administration (FMCSA), DOT.

ACTION: Notice of applications for exemptions; request for comments.

SUMMARY: FMCSA announces receipt of applications from 28 individuals for exemptions from the vision requirement in the Federal Motor Carrier Safety Regulations. If granted, the exemptions would enable these individuals to qualify as drivers of commercial motor vehicles (CMVs) in interstate commerce without meeting the Federal vision standard.

DATES: Comments must be received on or before April 23, 2008.

ADDRESSES: You may submit comments bearing the Federal Docket Management System (FDMS) Docket ID FMCSA-2008-0021 using any of the following methods:

• Federal eRulemaking Portal: Go to http://www.regulations.gov. Follow the on-line instructions for submitting comments.

• Mail: Docket Management Facility; U.S. Department of Transportation, 1200 New Jersey Avenue, SE., West Building, Ground Floor, Room W12-140, Washington, DC 20590-0001.

• Hand Delivery: West Building, Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476; Apr. 11, 2000). This information is also available at http://Docketinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 28 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Gerald L. Anderson

Mr. Anderson, age 60, has had loss of vision in his left eye due to a macular scar since 1993. The best corrected visual acuity in his right eye is 20/20 and in the left, 20/300. Following an examination in 2007, his optometrist noted, “Reviewing the results of the exam, I believe he has sufficient vision to operate a commercial vehicle.” Mr. Anderson reported that he has driven buses for 10 years, accumulating 341,500 miles. He holds a Class A CDL from Washington. His driving record for the last 3 years shows no crashes and no convictions for moving violations in a CMV.

Leo G. Becker

Mr. Becker, 30, has retinal scaring in his left eye due to a traumatic injury sustained as a child. The best corrected visual acuity in his right eye is 20/20 and in the left, 20/150. Following an examination in 2008, his optometrist noted, “In my opinion, Mr. Becker should have no visual reason why he can not operate a commercial vehicle.” Mr. Becker reported that he has driven straight trucks 6 years, accumulating 156,000 miles. He holds a Class C operator's license from Kansas. His driving record for the last 3 years shows no crashes and no convictions for moving violations in a CMV.

Delmas C. Bergdoll

Mr. Bergdoll, 60, has had loss of vision in his right eye due to a traumatic injury sustained in 2004. The best corrected visual acuity in his right eye is 20/80 and in the left, 20/20. Following an examination in 2007, his optometrist noted, “ I certify, in my opinion that Delmas Bergdoll has sufficient vision to perform the driving tasks required to operate a commercial vehicle.” Mr. Bergdoll reported that he has driven straight trucks for 37 years, accumulating 2.4 million miles, and tractor-trailer combinations for 37 years, accumulating 2.4 million miles. He holds a Class A CDL from West Virginia. His driving record for the last 3 years shows no crashes and no convictions for moving violations in a CMV.

Stanley W. Davis

Mr. Davis, 52, has a macular scar in his right eye due to a traumatic injury since childhood. The best corrected visual acuity in his right eye is 20/80 and in the left, 20/15. Following an examination in 2007, his optometrist noted, “It is my expert opinion that Mr. Davis' vision is sufficient enough to safely operate a commercial vehicle.” Mr. Davis reported that he has driven straight trucks for 18 years, accumulating 225,000 miles, and tractor-trailer combinations for 31 years, accumulating 3.3 million miles. He holds a Class A CDL from Texas. His driving record for the last 3 years shows no crashes and no convictions for moving violations in a CMV.

Marvin T. Fowler

Mr. Fowler, 57, has had ambylopia in his right eye since childhood. The best corrected visual acuity in his right eye is 20/80 and in the left, 20/25. Following an examination in 2007, his optometrist noted, “In my opinion, Mr. Fowler currently has sufficient vision to perform the driving tasks required to operate a commercial vehicle.” Mr. Fowler reported that he has driven tractor-trailer combinations for 20 years, accumulating 3.2 million miles. He holds a Class A CDL from Mississippi. His driving record for the last 3 years shows no crashes and no convictions for moving violations in a CMV.

Sean O. Feeny

Mr. Feeny, 44, has a retinal scar in his left eye due to an infection since 1980. The best corrected visual acuity in his right eye is 20/20 and in the left, 20/60. Following an examination in 2007, his optometrist noted, “In my opinion, Mr. Feeny has sufficient vision to operate a commercial vehicle.” Mr. Feeny reported that he has driven straight trucks for 3 years, accumulating 75,000 miles, and tractor-trailer combinations for 4 months, accumulating 25,000 miles. He holds a Class A CDL from Florida. His driving record for the last 3 years shows no crashes and no convictions for moving violations in a CMV.

Michael J. Frein

Mr. Frein, 47, has glaucoma, histoplasmasis, and retinal detachment since 1999. The best corrected visual acuity in his right eye is 20/20 and in the left, count-finger vision. Following an examination in 2007, his optometrist noted, “In my opinion, Mr. Frein does have sufficient enough vision to perform the driving tasks required to operate a commercial vehicle.” Mr. Frein reported that he has driven straight trucks for 31 years, accumulating 1.1 million miles. He holds a Class D operator's license from Iowa. His driving record for the last 3 years shows no crashes and no convictions for moving violations in a CMV.

Jimmy G. Hall

Mr. Hall, 65, has had a macular scar in his left eye due to toxocariasis since 1999. The best corrected visual acuity in his right eye is 20/20 and in the left, 20/200. Following an examination in 2007, his optometrist noted, “In our medical opinion, Mr. Hall has sufficient vision to perform the driving tasks required to operate a commercial vehicle.” Mr. Hall reported that he has driven tractor-trailer combinations for 20 years, accumulating 2.4 million miles. He holds a Class A CDL from North Carolina. His driving record for the last 3 years shows no crashes and no convictions for moving violations in a CMV.

Dennis R. Irvin

Mr. Irvin, 55, has had amblyopia in his right eye since childhood. The best corrected visual acuity in his right eye is 20/20 and in the left, 20/70. Following an examination in 2007, his optometrist noted, “In my opinion, Mr. Irvin has sufficient vision to operate a commercial motor vehicle.” Mr. Irvin reported that he has driven straight trucks for 35 years, accumulating 616,875 miles. He holds a Class B CDL from Massachusetts. His driving record for the last 3 years shows no crashes and no convictions for moving violations in a CMV.

Mark L. LeBlanc

Mr. LeBlanc, 39, has had amblyopia in his right eye since childhood. The best corrected visual acuity in his right eye is 20/200 and in the left, 20/20. Following an examination in 2007, his optometrist noted, “I believe Mark has sufficient vision to safely perform the driving tasks required to operate a commercial motor vehicle.” Mr. LeBlanc reported that he has driven straight trucks for 21 years, accumulating 630,000 miles, and tractor-trailer combinations for 17 years, accumulating 340,000 miles. He holds a Class A CDL from Minnesota. His driving record for the last 3 years shows no crashes and no convictions for moving violations in a CMV.

Keith A. Lighthall

Mr. Lighthall, 44, has had amblyopia in his left eye since childhood. The visual acuity in his right eye is 20/20 and in the left, 20/100. Following an examination in 2007, his ophthalmologist noted, “From my evaluation, with both eyes, this patient has sufficient vision and a full visual field to perform the driving tasks required to operate a commercial vehicle.” Mr. Lighthall reported that he has driven straight trucks for 9½ years, accumulating 32,300 miles. He holds a Class C operator's license from California. His driving record for the last 3 years shows no crashes and no convictions for moving violations in a CMV.

Michael G. Martin

Mr. Martin, 38, has had amblyopia in his left eye since childhood. The visual acuity in his right eye is 20/20 and in the left, 20/50. Following an examination in 2007, his optometrist noted, “Has sufficient vision to perform driving tasks required to operate a commercial vehicle.” Mr. Martin reported that he has driven straight trucks for 19 years, accumulating 1.5 million miles. He holds a Class B CDL from Massachusetts. His driving record for the last 3 years shows no crashes and no convictions for moving violations in a CMV.

Paul M. Matherne

Mr. Matherne, 44, has had amblyopia in his right eye since childhood. The visual acuity in his right eye is 20/60 and in the left, 20/20. Following an examination in 2007, his optometrist noted, “In my opinion, Mr. Matherne has sufficient vision to perform the driving tasks required to operate a commercial vehicle.” Mr. Matherne reported that he has driven straight trucks for 25 years, accumulating 1.3 million miles. He holds a Class D chauffeur license from Louisiana. His driving record for the last 3 years shows no crashes and no convictions for moving violations in a CMV.

David A. Miller

Mr. Miller, 45, has complete loss of vision in his right eye due to a traumatic injury sustained as a child. The visual acuity in his right eye is 20/20. Following an examination in 2007, his optometrist noted, “In my opinion, Mr. Miller has sufficient vision to perform the driving tasks required to operate a commercial vehicle.” Mr. Miller reported that he has driven straight trucks for 8 years, accumulating 100,000 miles. He holds a Class A CDL from Iowa. His driving record for the last 3 years shows no crashes and no convictions for moving violations in a CMV.

Justin T. Richman

Mr. Richman, 34, has had optic atrophy in his left eye since childhood. The best corrected visual acuity in his right eye is 20/20 and in the left, 20/70. Following an examination in 2007, his ophthalmologist noted, “In my opinion, Mr. Richman has sufficient vision to perform the driving task required to operate a commercial vehicle.” Mr. Richman reported that he has driven straight trucks for 4 years, accumulating 200,000 miles, and tractor-trailer combinations for 12 years, accumulating 492,000 miles. He holds a Class A CDL from Illinois. His driving record for the last 3 years shows no crashes and no convictions for moving violations in a CMV.

Steve J. Sherar

Mr. Sherar, 49, has complete loss of vision in his left eye due to optic nerve damage since 2002. The visual acuity in his right eye is 20/30. Following an examination in 2007, his ophthalmologist noted, “He appears to have sufficient vision to perform the driving task required to operate a commercial vehicle.” Mr. Sherar reported that he has driven straight trucks for 10 years, accumulating 125,000 miles, and tractor-trailer combinations for 5 years, accumulating 150,000 miles. He holds a Class D operator's license from Arizona. His driving record for the last 3 years shows no crashes and no convictions for moving violations in a CMV.

Robert F. Skinner, Jr.

Mr. Skinner, 51, has had amblyopia in his right eye since birth. The best corrected visual acuity in his right eye is 20/150 and in the left, 20/20. Following an examination in 2007, his optometrist noted, “Has sufficient vision to operate a commercial vehicle in my opinion.” Mr. Skinner reported that he has driven straight trucks for 3 years, accumulating 114,999 miles. He holds a Class B CDL from New York. His driving record for the last 3 years shows no crashes and one conviction for a moving violation in a CMV, failure to obey a traffic device.

William T. Smiley

Mr. Smiley, 36, has a retinal detachment in his left eye due to traumatic injury sustained in 2003. The visual acuity in his right eye is 20/20 and in the left, hand-motion vision. Following an examination in 2008, his ophthalmologist noted, “Based on my opinion and your formal testing, you do have sufficient vision to drive a commercial vehicle.” Mr. Smiley reported that he has driven straight trucks for 7 years, accumulating 126,000 miles. He holds a Class B CDL from Maryland. His driving record for the last 3 years shows no crashes and no convictions for moving violations in a CMV.

Richard M. Smith

Mr. Smith, 42, has complete loss of vision in his right eye due to a traumatic injury sustained at age 10. The best corrected visual acuity in his left eye is 20/15. Following an examination in 2007, his optometrist noted, “It is my professional opinion that Mr. Smith has sufficient vision to drive a commercial vehicle.” Mr. Smith reported that he has driven straight trucks for 4 years, accumulating 10,000 miles, and tractor-trailer combinations for 5 years, accumulating 200,000 miles. He holds a Class A CDL from Colorado. His driving record for the last 3 years shows no crashes and no convictions for moving violations in a CMV.

Robert A. Stoeckle

Mr. Stoeckle, 58, has amblyopia in his right eye since childhood. The best corrected visual acuity in his right eye is count-finger vision and in the left, 20/40. Following an examination in 2007, his ophthalmologist noted, “In my medical opinion his vision has allowed him to drive a commercial vehicle in the past and since his examination is unchanged, he should be able to continue driving a commercial vehicle.” Mr. Stoeckle reported that he has driven straight trucks for 10 years, accumulating 200,000 miles. He holds a Class D operator's license from Kentucky. His driving record for the last 3 years shows one crash and one conviction for a moving violation in a CMV. He exceeded the speed limit by 10 mph.

Aaron S. Taylor

Mr. Taylor, 37, has had amblyopia in his right eye since childhood. The best corrected visual acuity in his right eye is count-finger vision and in the left, 20/20. Following an examination in 2007, his ophthalmologist noted, “In my medical opinion, Mr. Taylor has sufficient vision to perform the driving tasks required to operate a commercial vehicle.” Mr. Taylor reported that he has driven straight trucks for 2½ years, accumulating 82,500 miles, and tractor-trailer combinations for 8 years, accumulating 290,000 miles. He holds a Class A CDL from Wisconsin. His driving record for the last 3 years shows no crashes and no convictions for moving violations in a CMV.

Martin L. Taylor, Jr.

Mr. Taylor, 31, has had amblyopia in his right eye since childhood. The best corrected visual acuity in his right eye is 20/100 and in the left, 20/20. Following an examination in 2007, his optometrist noted, “In my opinion, Mr. Martin exhibits sufficient vision to operate a commercial vehicle based upon his testing today.” Mr. Taylor reported that he has driven straight trucks for 8 years, accumulating 192,000 miles. He holds a Class A CDL from Utah. His driving record for the last 3 years shows no crashes and no convictions for moving violations in a CMV.

Marion E. Terry

Mr. Terry, 72, has had central scotoma in his left eye since 1960. The best corrected visual acuity in his right eye is 20/20 and in the left, 20/200. Following an examination in 2007, his ophthalmologist noted, “His color vision is normal and in my opinion, he should have sufficient vision to perform the driving tasks required to operate a commercial vehicle.” Mr. Terry reported that he has driven straight trucks for 7½ years, accumulating 228,750 miles, and tractor-trailer combinations for 36 years, accumulating 4.7 million miles. He holds a Class A CDL from Alabama. His driving record for the last 3 years shows no crashes and no convictions for moving violations in a CMV.

Michael J. Tisher

Mr. Tisher, 62, has a prosthetic left eye due to a traumatic injury sustained in 1993. The visual acuity in his right eye is 20/20. Following an examination in 2007, his optometrist noted, “I do feel that Mr. Tisher has sufficient vision to qualify for driving tasks of a commercial vehicle.” Mr. Tisher reported that he has driven straight trucks for 39 years, accumulating 1.1 million miles, and tractor-trailer combinations for 39 years, accumulating 390,000 miles. He holds a Class A CDL from Alaska. His driving record for the last 3 years shows no crashes and no convictions for moving violations in a CMV.

Gary R. Thomas

Mr. Thomas, 59, has had macular retinal detachment in his right eye since 2004. The best corrected visual acuity in his right eye is hand-motion vision and in the left, 20/20. Following an examination in 2007, his optometrist noted, “It is my opinion that Mr. Thomas has sufficient vision O.S. (left eye) to operate a commercial vehicle and perform required tasks to operate said vehicle.” Mr. Thomas reported that he has driven straight trucks for 44 years, accumulating 1.2 million miles, and tractor-trailer combinations for 28 years, accumulating 1.4 million miles. He holds a Class A CDL from Ohio. His driving record for the last 3 years shows no crashes and no convictions for moving violations in a CMV.

William B. Thomas

Mr. Thomas, 50, has central serous choroidopathy in his right eye. The best corrected visual acuity in his right eye is 20/80 and in the left, 20/20. Following an examination in 2007, his ophthalmologist noted, “In my medical opinion, Mr. Thomas has sufficient vision to perform the driving tasks required to operate a commercial vehicle.” Mr. Thomas reported that he has driven straight trucks for 10 years, accumulating 175,000 miles. He holds a Class D operator's license from South Carolina. His driving record for the last 3 years shows no crashes and no convictions for moving violations in a CMV.

Dean A. Weaver

Mr. Weaver, 41, has had amblyopia in his right eye since childhood. The best corrected visual acuity in his right eye is 20/70 and in the left, 20/20. Following an examination in 2007, his optometrist noted, “In my opinion, there is no change in his medical/visual condition and he has sufficient vision to perform the driving tasks required to drive a commercial vehicle.” Mr. Weaver reported that he has driven straight trucks for 6 years, accumulating 138,000 miles. He holds a Class B CDL from Pennsylvania. His driving record for the last 3 years shows no crashes and no convictions for moving violations in a CMV.

Kevin R. White

Mr. White, 30, has had exotropia in his right eye since childhood. The best corrected visual acuity in his right eye is hand-motion vision and in the left, 20/20. Following an examination in 2007, his optometrist noted, “In my opinion, Mr. White has sufficient vision to perform the driving tasks associated with driving a commercial vehicle.” Mr. White reported that he has driven straight trucks for 2 years, accumulating 110,000 miles, and tractor-trailer combinations for 8 years, accumulating 480,000 miles. He holds a Class A CDL from North Carolina. His driving record for the last 3 years shows no crashes and one conviction for a moving violation, speeding in a CMV. He exceeded the speed limit by 9 mph.

Request for Comments

In accordance with 49 U.S.C. 31136(e) and 31315, FMCSA requests public comment from all interested persons on the exemption petitions described in this notice. The Agency will consider all comments received before the close of business April 23, 2008. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: March 18, 2008.
Larry W. Minor,
Associate Administrator for Policy and Program Development.

[FR Doc. E8-5857 Filed 3-21-08; 8:45 am]

BILLING CODE 4910-EX-P